ENVIRONMENTAL PROTECTION AGENCY

40 CFR Part 52

[EPA-R06-OAR-2016-0132; FRL-9945-08-Region 6]

Approval and Promulgation of Implementation Plans; State of Louisiana; Revisions to the State Implementation Plan; Fee Regulations

AGENCY: Environmental Protection Agency (EPA).

ACTION: Proposed rule.

SUMMARY: The Environmental Protection Agency (EPA) is proposing to approve revisions to the Louisiana State Implementation Plan (SIP) related to the Fee Regulations section of the Louisiana SIP that were submitted by the State of Louisiana on February 23, 2016. The EPA has evaluated the SIP submittal from Louisiana and preliminarily determined these revisions are consistent with the requirements of the Clean Air Act (Act or CAA). The EPA is proposing this action under section 110 of the Act.

DATES: Written comments should be received on or before May 23, 2016.

ADDRESSES: Submit your comments, identified by Docket No. EPA-R06-OAR-2016-0132, at http://www.regulations.gov or via email to donaldson.tracie@epa.gov. For additional information on how to submit comments see the detailed instructions in the ADDRESSES section of the direct final rule located in the rules section of this Federal Register.

FOR FURTHER INFORMATION CONTACT: Tracie Donaldson, 214-665-6633, donaldson.tracie@epa.gov. To inspect the hard copy materials, please schedule an appointment with Tracie Donaldson or Bill Deese at 214-665-7253.

SUPPLEMENTARY INFORMATION: In the final rules section of this Federal Register, the EPA is approving the State's SIP submittal as a direct rule without prior proposal because the Agency views this as a noncontroversial submittal and anticipates no adverse comments. A detailed rationale for the approval is set forth in the direct final rule. If no relevant adverse comments are received in response to this action, no further activity is contemplated. If the EPA receives relevant adverse comments, the direct final rule will be withdrawn and all public comments received will be addressed in a subsequent final rule based on this proposed rule. The EPA will not institute a second comment period. Any parties interested in commenting on this action should do so at this time.

For additional information, see the direct final rule which is located in the rules section of this Federal Register.

Dated: April 6, 2016.
Ron Curry,
Regional Administrator, Region 6.

[FR Doc. 2016-09065 Filed 4-20-16; 8:45 am]

BILLING CODE 6560-50-P